FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Office of Agreements (202-523-5793 or tradeanalysis@fmc.gov).

Agreement No.: 010714-041.

Title: Trans-Atlantic American Flag Liner Operators Agreement.

Parties: A.P. Moller-Maersk A/S; American President Lines, Ltd.; American Roll-On Roll-Off Carrier, LLC; and Hapag-Lloyd USA, LLC.

Filing Party: Howard A. Levy, Esq.; 80 Wall Street; Suite 1117, New York, NY 10005.

Synopsis: The amendment changes the address of American Roll-On Roll-Off Carrier, LLC.

Agreement No.: 011426-040.

Title: West Coast of South America Discussion Agreement.

Parties: APL Co. Pte Ltd.; Compania Chilena de Navigacion Interoceanica, S.A.; Compania Sud Americana de Vapores, S.A.; Frontier Liner Services, Inc.; Hamburg-Süd; Hapag-Lloyd AG; King Ocean Services Limited, Inc.; Maruba S.C.A.; Mediterranean Shipping Company, S.A.; Seaboard Marine Ltd.; South Pacific Shipping Company, Ltd.; and Trinity Shipping Line.

Filing Party: Wayne R. Rohde, Esq.; Sher & Blackwell LLP; 1850 M Street, NW., Suite 900, Washington, DC 20036.

Synopsis: The amendment would add Mediterranean Shipping Company as a participant in the Colombia Section of the agreement.

Agreement No.: 011733-021.

Title: Common Ocean Carrier Platform Agreement.

Parties: A.P. Moller-Maersk A/S; CMA CGM; Hamburg-Süd; Hapag-Lloyd AG; Mediterranean Shipping Company S.A.; and United Arab Shipping Company (S.A.G.) as shareholder parties, and Alianca Navegacao e Logistica Ltda.; Compania Sud Americana de Vapores, S.A.; Companhia Libra de Navegacao; Emirates Shipping Lines; Hyundai Merchant Marine Co. Ltd; Kawasaki Kisen Kaisha, Ltd.; MISC Berhad; Mitsui O.S.K. Lines Ltd.; Nippon Yusen Kaisha; Safmarine Container Lines N.V.; Senator Lines GmbH; Norasia Container Lines Limited; and Tasman Orient Line C.V. as non-shareholder parties.

Filing Party: Wayne R. Rohde, Esq.; Sher & Blackwell LLP; 1850 M Street, NW., Suite 900, Washington, DC 20036.

Synopsis: The amendment adds COSCO Container Lines Co., Ltd. as a non-shareholder party to the agreement.

Agreement No.: 011839-006.

Title: Med-Gulf Space Charter Agreement.

Parties: Hapag-Lloyd AG and Compania Sud Americana de Vapores S.A.

Filing Party: Walter H. Lion, Esq.; McLaughlin & Stern, LLP; 260 Madison Avenue, New York, NY 10016.

Synopsis: The amendment would expand the geographic scope of the agreement to cover all ports bordering on the Mediterranean Sea. The parties request expedited review.

Agreement No.: 011931-002.

Title: CMA CGM/Marfret Vessel Sharing Agreement.

Parties: CMA CGM S.A., CMA CGM (UK) Limited, and Compagnie Maritime Marfret S.A.

Filing Party: Paul M. Keane, Esq.; Cichanowicz, Callan, Keane, Vengrow & Textor, LLP; 61 Broadway, Suite 3000, New York, NY 10006-2802.

Synopsis: The amendment removes Hapag-Lloyd AG as a party to the agreement.

Agreement No.: 011941-002.

Title: CMA CGM/ELJSA/GSL Amerigo Express 3 MUS Cross Space Charter, Sailing and Cooperative Working Agreement.

Parties: CMA CGM, S.A. and Evergreen Line Joint Service Agreement.

Filing Party: Paul M. Keane, Esq.; Cichanowicz, Callan, Keane, Vengrow & Textor, LLP; 61 Broadway, Suite 3000, New York, NY 10006-2802.

Synopsis: The amendment removes Gold Star Line Ltd. as a party to the agreement.

Agreement No.: 011999.

Title: Hapag-Lloyd/NYK Slot Exchange Agreement.

Parties: Hapag-Lloyd AG and Nippon Yusen Kaisha.

Filing Party: David F. Smith, Esq.; Sher & Blackwell LLP; 1850 M Street, NW., Suite 900, Washington, DC 20036.

Synopsis: The agreement would authorize the parties to exchange slots between ports in Singapore, Thailand, India, Sri Lanka, Saudi Arabia, Egypt, and Italy and ports on the U.S. East Coast. The parties request expedited review.

Agreement No.: 012000.

Title: CMA CGM/Maruba Amerigo Express Space Charter Agreement.

Parties: CMA CGM S.A. (“CMA CGM”) and Maruba S.A. (“Maruba”).

Filing Party: Paul M. Keane, Esq.; Cichanowicz, Callan, Keane, Vengrow & Textor, LLP; 61 Broadway, Suite 3000, New York, NY 10006-2802.

Synopsis: The agreement authorizes CMA CGM to charter space to Maruba for the carriage of container cargo between the U.S. Atlantic Coast and the Mediterranean.

Agreement No.: 012001.

Title: Maruba/Zim USED-Med Space Charter Agreement.

Parties: Maruba S.A. (“Maruba”) and Zim Integrated Shipping Services, Ltd. (“Zim”).

Filing Party: Wayne R. Rohde, Esq.; Sher & Blackwell LLP; 1850 M Street, NW., Suite 900, Washington, DC 20036.

Synopsis: The agreement authorizes Maruba to charter space to Zim for the carriage of container cargo between the U.S. Atlantic Coast and ports in Europe and the Mediterranean.

Dated: May 17, 2007.
By Order of the Federal Maritime Commission.
Bryant L. VanBrakle,
Secretary.

[FR Doc. E7-9816 Filed 5-21-07; 8:45 am]

BILLING CODE 6730-01-P